DEPARTMENT OF TRANSPORTATION

Federal Aviation Administration

14 CFR Part 39

[Docket No. FAA-2011-1413; Directorate Identifier 2011-NM-062-AD; Amendment 39-17036; AD 2012-09-01]

RIN 2120-AA64

Airworthiness Directives; Cessna Aircraft Company Airplanes

AGENCY: Federal Aviation Administration (FAA), DOT.

ACTION: Final rule.

SUMMARY: We are adopting a new airworthiness directive (AD) for certain Cessna Aircraft Company Model 560XL airplanes. This AD was prompted by reports of wheel inserts becoming loose and damaging brake assemblies on Model 560XL airplanes. This AD requires an inspection of the torque lug and surrounding components (wheel base, side rim, lock ring) for damage (such as corrosion, cracks, dents, bent areas, damaged or missing paint or primer, or wear on the metal), and of the bearing cup for corrosion, turned cup, or clearance that exceeds limits, and repair as applicable; measuring the torque lugs for width and replacing screws and inserts with new, improved screws and inserts; and re-identifying the wheel assemblies. We are issuing this AD to prevent brake failure, which could result in an airplane not being able to stop on the runway.

DATES: This AD is effective June 7, 2012.

The Director of the Federal Register approved the incorporation by reference of a certain publication listed in the AD as of June 7, 2012.

ADDRESSES: For Cessna service information identified in this AD, contact Cessna Aircraft Co., P.O. Box 7706, Wichita, Kansas 67277-7706; telephone 316-517-6215; fax 316-517-5802; email citationpubs@cessna.textron.com; Internet https://www.cessnasupport.com/newlogin.html. For Goodrich service information identified in this AD, contact Goodrich Corporation, Aircraft Wheels & Brakes, P.O. Box 340, Troy, Ohio 45373-3872; telephone 937-440-2130; fax 937-440-2055; email WBPubs-Admin@goodrich.com; Internet http://www.goodrich.com/TechPubs. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: David Fairback, Aerospace Engineer, Mechanical Systems and Propulsion Branch, ACE-116W, FAA, Wichita Aircraft Certification Office, 1801 Airport Road, Room 100, Mid-Continent Airport, Wichita, KS 67209; phone: 316-946-4154; fax: 316-946-4107; email: david.fairback@faa.gov.

SUPPLEMENTARY INFORMATION:

Discussion

We issued a notice of proposed rulemaking (NPRM) to amend 14 CFR part 39 to include an AD that would apply to the specified products. That NPRM published in the Federal Register on January 19, 2012 (77 FR 2659). That NPRM proposed to require an inspection of the torque lug and surrounding components (wheel base, side rim, lock ring) for damage (such as corrosion, cracks, dents, bent areas, damaged or missing paint or primer, or wear on the metal), and of the bearing cup for corrosion, turned cup, or clearance that exceeds limits, and repair as applicable; measuring the torque lugs for width and replacing screws and inserts with new, improved screws and inserts; and re-identifying the wheel assemblies.

Comments

We gave the public the opportunity to participate in developing this AD. We received no comments on the NPRM (77 FR 2659, January 19, 2012) or on the determination of the cost to the public.

Conclusion

We reviewed the relevant data and determined that air safety and the public interest require adopting the AD as proposed, except for minor editorial changes. In addition, we have re-identified Note 2 of the NPRM (77 FR 2659, January 19, 2012) as paragraph (h) of this final rule. We also revised the language in paragraph (j) of this AD; this change does not affect the intent of this AD. We have determined that these minor changes:

• Are consistent with the intent that was proposed in the NPRM (77 FR 2659, January 19, 2012) for correcting the unsafe condition; and

• Do not add any additional burden upon the public than was already proposed in the NPRM (77 FR 2659, January 19, 2012).

Costs of Compliance

We estimate that this AD affects 473 airplanes of U.S. registry.

We estimate the following costs to comply with this AD:

Estimated Costs
Action | Labor cost | Parts cost | Cost per product | Cost on U.S. operators
Inspection, and measurement of the torque lugs, replacement of screws and inserts, and re-marking | Up to 11 work-hours × $85 per hour = $935 | Up to $6,462 | Up to $7,397 | Up to $3,498,781.

We estimate the following costs to do any necessary repairs or replacements as applicable that would be required based on the results of the inspection. We have no way of determining the number of aircraft that might need these repairs or replacements:

On-Condition Costs
Action | Labor cost | Parts cost | Cost per product
Repair or replacement as applicable | Between 1 and 9 work-hour[s] × $85 per hour = Between $85 and $765 per wheel assembly | Between $0 and $24,000 per wheel assembly | Between $85 and $24,765 per wheel assembly.

According to the manufacturer, all of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-09-01 Cessna Aircraft Company: Amendment 39-17036; Docket No. FAA-2011-1413; Directorate Identifier 2011-NM-062-AD.

(a) Effective Date

This AD is effective June 7, 2012.

(b) Affected ADs

None.

(c) Applicability

This AD applies to Cessna Aircraft Company Model 560XL airplanes; certificated in any category; having serial numbers 5002 through 5372 inclusive, 5501 through 5830 inclusive, 6001 through 6055 inclusive, 6057 through 6066 inclusive, 6069 through 6071 inclusive, and 6073 through 6077 inclusive.

(d) Subject

Joint Aircraft System Component (JASC)/Air Transport Association (ATA) of America Code 32, Landing Gear.

(e) Unsafe Condition

This AD was prompted by reports of wheel inserts becoming loose and damaging brake assemblies on Model 560XL airplanes. We are issuing this AD to prevent brake failure, which could result in an airplane not being able to stop on the runway.

(f) Compliance

Comply with this AD within the compliance times specified, unless already done.

(g) Inspection, Corrective Action, and Replacement

Within 1 year after the effective date of this AD, or during the next tire change accomplished after the effective date of this AD, whichever occurs first: Do the actions specified in paragraphs (g)(1), (g)(2), and (g)(3) of this AD on both main wheels, in accordance with the Accomplishment Instructions of Cessna Service Bulletin SB560XL-32-41, Revision 1, dated May 5, 2011, including Supplemental Data, dated February 25, 2011. Do all applicable repairs and replacements before further flight.

(1) Do a general visual inspection of the torque lug and surrounding components (wheel base, side rim, lock ring) for damage (such as corrosion, cracks, dents, bent areas, damaged or missing paint or primer, or wear on the metal), and of the bearing cup for corrosion, turned cup, or clearance that exceeds limits, and all applicable repairs.

(2) Measure the torque lugs for width and replace screws and inserts with new, improved screws and inserts.

(3) Re-identify the wheel assembly.

Note 1 to paragraph (g) of this AD: Cessna Service Bulletin SB560XL-32-41, Revision 1, dated May 5, 2011, including Supplemental Data, dated February 25, 2011, refers to Goodrich Service Bulletin 3-1571-32-7, dated February 25, 2011, as an additional source of guidance on inspecting and repairing the torque lugs, surrounding components, and bearing cup, and re-identifying the wheel assemblies.

(h) Definition

For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

(i) Parts Installation

As of the effective date of this AD, no person may install, on any airplane, a wheel assembly having P/N 3-1571-3 or 3-1571-4, unless it has been inspected, measured, and re-identified, in accordance with paragraph (g) of this AD, and all applicable repairs or replacements have been done.

(j) Credit for Previous Actions

This paragraph provides credit for actions, as required by paragraph (g) of this AD, if those actions were done before the effective date of this AD in accordance with Cessna Service Bulletin SB560XL-32-41, dated February 25, 2011.

(k) No Reporting Required

Although Cessna Service Bulletin SB560XL-32-41, Revision 1, dated May 5, 2011, specifies to submit certain information to the manufacturer, this AD does not include that requirement.

(l) Alternative Methods of Compliance (AMOCs)

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(m) Related Information

For more information about this AD, contact contact David Fairback, Aerospace Engineer, Mechanical Systems and Propulsion Branch, ACE-116W, FAA, Wichita Aircraft Certification Office, 1801 Airport Road, Room 100, Mid-Continent Airport, Wichita, KS 67209; phone: 316-946-4154; fax: 316-946-4107; email: david.fairback@faa.gov.

(n) Material Incorporated by Reference

(1) You must use the following service information to do the actions required by this AD, unless the AD specifies otherwise.

(2) The Director of the Federal Register approved the incorporation by reference (IBR) under 5 U.S.C. 552(a) and 1 CFR part 51 of the following service information:

(i) Cessna Service Bulletin SB560XL-32-41, Revision 1, dated May 5, 2011, including Supplemental Data, dated February 25, 2011.

(3) For Cessna service information identified in this AD, contact Cessna Aircraft Co., P.O. Box 7706, Wichita, Kansas 67277; telephone 316-517-6215; fax 316-517-5802; email citationpubs@cessna.textron.com; Internet https://www.cessnasupport.com/newlogin.html.

(4) For Goodrich service information identified in this AD, contact Goodrich Corporation, Aircraft Wheels & Brakes, P.O. Box 340, Troy, Ohio 45373-3872; telephone 937-440-2130; fax 937-440-2055; email WBPubs-Admin@goodrich.com; Internet http://www.goodrich.com/TechPubs.

(5) You may review copies of the service information at the FAA, Transport Airplane Directorate, 1601 Lind Avenue SW., Renton, Washington. For information on the availability of this material at the FAA, call 425-227-1221.

(6) You may also review copies of the service information that is incorporated by reference at the National Archives and Records Administration (NARA). For information on the availability of this material at NARA, call 202-741-6030, or go to: http://www.archives.gov/federal-register/cfr/ibr-locations.html.

Issued in Renton, Washington, on April 24, 2012.
Michael Kaszycki,
Acting Manager, Transport Airplane Directorate, Aircraft Certification Service.

[FR Doc. 2012-10473 Filed 5-2-12; 8:45 am]

BILLING CODE 4910-13-P